DEPARTMENT OF THE INTERIOR

Fish and Wildlife Service

[FWS-R7-R-2009-N282; 70133-1265-0000-U4]

Yukon Flats National Wildlife Refuge, Fairbanks, AK

AGENCY: U.S. Fish and Wildlife Service, Interior.

ACTION: Notice of availability of proposed land exchange Yukon Flats National Wildlife Refuge final environmental impact statement.

SUMMARY: We, the U.S. Fish and Wildlife Service (Service, we) announce that the Final Environmental Impact Statement (FEIS) for a Proposed Land Exchange in the Yukon Flats National Wildlife Refuge (Refuge), Alaska, is available for public review. We prepared this FEIS pursuant to the National Environmental Policy Act of 1969 (NEPA) and its implementing regulations. The Service is furnishing this notice to advise the public and other agencies of availability of the FEIS.

DATES: We will accept comments on the FEIS up to 30 days from the date of publication of this Notice.

ADDRESSES: Information about the Refuge and the FEIS is available on the internet at: http://yukonflatseis.ensr.com. You may view or download a copy of the FEIS at this Web site. Copies of the FEIS may be viewed at the Yukon Flats Refuge Office in Fairbanks, Alaska, and the U.S. Fish and Wildlife Service Regional Office in Anchorage, Alaska. You may request a paper copy or a compact disk of the FEIS. Send your comments or requests for more information by any of the following methods.

E-mail: yukonflats_planning@fws.gov. Include “Yukon Flats FEIS” in the subject line of the message.

Fax: Attn: Laura Greffenius, EIS Project Coordinator, (907) 786-3965.

U.S. Mail: Laura Greffenius, EIS Project Coordinator, U.S. Fish and Wildlife Service, 1011 East Tudor Road, MS-231, Anchorage, AK 99503.

In-Person Drop-off: You may drop off comments during regular business hours at the above address.

FOR FURTHER INFORMATION CONTACT: Laura Greffenius, EIS Project Coordinator, phone (907) 786-3872.

SUPPLEMENTARY INFORMATION: The Yukon Flats Refuge is located in eastern interior Alaska. The exterior boundaries encompass about 11.1 million acres, of which about 2.5 million acres are owned or selected by Native corporations established under the Alaska Native Claims Settlement Act of 1971 (ANCSA; 43 U.S.C. 1601 et seq.). The Refuge includes the Yukon Flats, a vast wetland basin bisected by the Yukon River. The basin is underlain by permafrost and includes a complex network of lakes, streams, and rivers. The Refuge supports the highest density of breeding ducks in Alaska, and includes one of the greatest waterfowl breeding areas in North America.

Doyon, Limited (Doyon) is an Alaska Native Regional Corporation established under ANCSA. Under the authority of ANCSA, Congress granted to Doyon land entitlements within an area that later became the Yukon Flats National Wildlife Refuge in 1980. Doyon has ownership interests in nearly 2 million acres within the boundaries of the Refuge, including the surface and subsurface estates of 1.15 million acres of land, and the subsurface estate of another 782,000 acres. An additional 56,500 acres remain to be allocated by Doyon to Village Corporations located in the Refuge; Doyon would own the subsurface to these lands. Doyon is owned by over 14,000 Alaska Natives (Native Americans) with ties to a large portion of interior Alaska. Approximately 1,300 people reside in nine communities in or near the Yukon Flats Refuge. Most residents are Alaska Natives and many are Doyon shareholders.

Negotiators for Doyon and the Fish and Wildlife Service, Alaska Region, agreed in principle to exchange certain lands within the Refuge. Under the agreement, the United States (U.S.) would convey to Doyon the title to Refuge lands that may hold developable oil and gas resources. In exchange, Doyon would convey to the U.S. lands owned by Doyon within the Refuge boundary. These lands include wetlands previously identified by the Service as priority fish and wildlife habitats. In addition, both parties agreed in principle to exchange nearly six townships (132,000 acres each) to consolidate ownerships and facilitate land management within the Refuge. All lands acquired by the U.S. would be managed as part of the Yukon Flats Refuge. Activities on Doyon-owned lands are not subject to regulation by the Service.

At the request of Doyon and the public, the Service prepared a Draft Environmental Impact Statement (DEIS) to evaluate the effects of the exchange, in accordance with procedures for implementing the National Environmental Policy Act of 1969 (NEPA; 42 U.S.C. 4321-4370d). The DEIS evaluates a range of reasonable alternatives, including the following four alternatives: Proposed Action: Equal-value land exchange (based on fair market appraisals) as described in the Agreement in Principle (for the full text of the Agreement, see Appendix A of the DEIS or the project Web site at http://yukonflatseis.ensr.com/yukon_flats/documents_other.htm). Under Phase I of this agreement, Doyon would receive about 110,000 acres of Refuge lands with oil and gas potential and 97,000 acres of oil and gas interests (no surface occupancy). In exchange, the U.S. would receive from Doyon a minimum of 150,000 acres with lowland fish and wildlife habitats. The actual amount of land received from Doyon would be more than 150,000 acres if appraisals indicate more lands are needed to equal the value of the Service lands. In addition, Doyon would reallocate 56,500 acres of its remaining land entitlement under Section 12(b) of ANCSA to areas outside the Refuge. Both parties would pursue additional township-level exchanges to consolidate ownerships. If Doyon were to produce oil or gas on lands acquired in the exchange, under Phase II of the Agreement the Service would receive a perpetual production payment equal to 1.25% of the value at the wellhead to be used to: (1) Purchase from Doyon up to 120,000 acres of additional lands or interests therein, within the Refuge, (2) purchase land or interests therein, from other willing sellers in other national wildlife refuges in Alaska, or to (3) construct facilities in Alaska Refuges.

Alternative 1: Land exchange with non-development easements. The land exchange would proceed as described in Phase I under the Proposed Action above. In addition, at the time of the initial exchange, Doyon would donate to the U.S. non-development easements that preclude development on up to 120,000 acres of Doyon-owned lands. Rather than selling these lands to the U.S. in Phase II (as provided for in the Proposed Action), Doyon would donate the non-development easements whether or not oil and gas is produced from the exchange lands. If Doyon were to produce oil or gas on lands received in the exchange, the U.S. would receive a perpetual production payment of 0.25% of the resource value at the wellhead rather than 1.25% as provided under the Proposed Action.

Alternative 2: Land exchange excluding White-Crazy Mountains. The Yukon Flats Comprehensive Conservation Plan and Environmental Impact Statement recommended Wilderness designation for a 658,000 acre area in the White-Crazy Mountains. Under the Proposed Action and Alternative 1, Doyon would receive title to about 26,500 acres of this land; under Alternative 2, these 26,500 acres would be excluded from the exchange. In Phase I of the exchange, Doyon would receive title to approximately 83,500 acres of Refuge lands (surface and subsurface) and 105,000 acres of oil and gas interests. About 21,000 acres of the latter would be within the area proposed for Wilderness designation. However, only off-site drilling would be allowed; there would be no surface occupancy by Doyon. From Doyon, the U.S. would receive title to a minimum of 115,000 acres, but the actual amount could be adjusted upward to equalize values. The land consolidation exchange and 12(b) reallocation provisions of Phase I would proceed as detailed in the Agreement in Principle. Phase II of the exchange would proceed as detailed in the Agreement, however Doyon's commitment to sell additional lands to the U.S. would be reduced from about 120,000 acres to about 81,000 acres. Potential access rights-of-way would cross the proposed White-Crazy Mountains Wilderness Area. If Doyon were to produce oil or gas on the lands received in the exchange, the Service would receive a perpetual production payment equal to 1.25% of the value at the wellhead.

Alternative 3: No action (no exchange). The U.S. would not enter into a land exchange with Doyon. This is the preferred alternative in the FEIS based on public comments received on the draft and our analysis.

Public Availability of Comments

All public comments we receive, including those from individuals, become part of the public record, and are available to the public upon request. Therefore, before including your name, address, phone number, e-mail address, or other personal identifying information in your comment, you should be aware that your entire comment—including your personal identifying information—may be made publicly available at any time. While you can ask us in your comment to withhold your personal identifying information from public review, we cannot guarantee that we will be able to do so.

Dated: February 4, 2010.
Geoffrey L. Haskett,
Regional Director, U.S. Fish and Wildlife Service, Anchorage, Alaska.

[FR Doc. 2010-3231 Filed 3-11-10; 8:45 am]

BILLING CODE 4310-55-P